DEPARTMENT OF DEFENSE

Office of the Secretary

[Docket ID DoD-2020-OS-0105]

Privacy Act of 1974; System of Records

AGENCY: Department of Defense (DoD).

ACTION: Notice of a modified system of records.

SUMMARY: In accordance with the Privacy Act of 1974, the DoD is modifying and reissuing a current system of records titled, “Defense Repository for Common Enterprise Data (DRCED),” DUSDC 01. This system of records was originally established by the Office of the Under Secretary of Defense (Comptroller) to collect and maintain records on various individuals, including active and retired Military Service personnel, their dependents, DoD civilian personnel, and other DoD-affiliated individuals, to support the DoD's defense business enterprise by using technology to synchronize and normalize data to improve affordability, performance, reporting, and mission readiness. This system of records notice (SORN) is being updated to support additional information systems being established within the DoD using the same categories of data for the same purposes. The system number is changing from DUSDC 01 to DoD 0004, to reflect its status as a DoD-wide system of records. The DoD is also modifying the system location, system managers, authority for maintenance of the system, purpose of the system, individuals covered by the system, record source categories, and notification procedures. Additionally, the DoD is issuing a Notice of Proposed Rulemaking proposing to exempt this system of records from certain provisions of the Privacy Act, in today's issue of the Federal Register.

DATES: This system of records modification is effective upon publication; however, comments on the Routine Uses will be accepted on or before February 5, 2021. The Routine Uses are effective at the close of the comment period.

ADDRESSES: You may submit comments, identified by docket number and title, by any of the following methods:

• Federal Rulemaking Portal: https://www.regulations.gov.

Follow the instructions for submitting comments.

• Mail: The DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Lyn Kirby, Chief, Defense Privacy, Civil Liberties, and Transparency Division, Directorate for Oversight and Compliance, Department of Defense, 4800 Mark Center Drive, Mailbox #24, Suite 08D09, Alexandria, VA 22350-1700; OSD.DPCLTD@mail.mil; (703) 571-0070.

SUPPLEMENTARY INFORMATION: The DRCED system of records is being updated to clarify that it serves as a DoD-wide system of records and to support new information systems being established within the DoD using the same categories of data for the same purposes. The original system of records was established to support a single information system with the Office of the Undersecretary of Defense (Comptroller) as the system manager. The expanded system of records will support multiple information systems that provide DoD-wide and component-level enterprise solutions for integrating and analyzing targeted data from existing DoD systems to develop timely, actionable, and insightful conclusions in support of national strategies.

These information systems may also create and use predictive analytic models based upon specific data streams to equip decision makers with critical data necessary for execution of fiscal and operational requirements. These systems automate financial and business transactions, perform cost-management analysis, produce oversight and audit reports, and provide critical data expected to improve performance of mission objectives, providing a significant benefit to the DoD.

This SORN is modifying the system number from DUSDC 01 to DoD 0004, to reflect its status as a DoD-wide system of records. The remaining modifications principally change the SORN to reflect the broad intended use of this system of records to cover data stored in multiple information systems. The other modifications are (1) to the System Location section to reflect the various locations in which these information systems may reside; (2) to the System Manager section to include system managers for the additional information systems expected to operate under this system of records; (3) to the Authority for Maintenance of the System section to update citations, add additional authorities, and cite the authorities in the appropriate order; (4) to the Purpose of the System section to list the functions of the system with additional clarity; (5) to the Categories of Individuals covered by the system to add examples of Department affiliation; (6) to the Record Source Categories section to remove systems and update system names; (7) to the Record Access Procedures section to reflect the need for individuals to identify the appropriate DoD office or component to which their request should be directed; (8) to the Notification Procedures section to include additional system managers; and (9) to the Exemptions Promulgated for the System section to claim exemptions from certain provisions of the Privacy Act for classified information in this system of records.

A Notice of Proposed Rulemaking is being published in today's issue of the Federal Register for public comment on the proposal to exempt this system of records from certain provisions of the Privacy Act.

The DoD notices for systems of records subject to the Privacy Act of 1974, as amended, have been published in the Federal Register and are available from the address in FOR FURTHER INFORMATION CONTACT or at the Defense Privacy, Civil Liberties, and Transparency Division website at https://dpcld.defense.gov.

In accordance with 5 U.S.C. 552a(r) and OMB Circular No. A-108, the DoD has provided a report of this system of records to the Office of Management and Budget and to Congress.

Dated: December 22, 2020.
Aaron T. Siegel,
Alternate OSD Federal Register Liaison Officer, Department of Defense.

SYSTEM NAME AND NUMBER:

Defense Repository for Common Enterprise Data (DRCED), DoD 0004.

SECURITY CLASSIFICATION:

Unclassified and Classified.

SYSTEM LOCATION:

Department of Defense (DoD), located at 1000 Defense Pentagon, Washington, DC 20301-1000, and other Department installations, offices, or mission locations. Information may also be stored within a government-certified cloud, implemented and overseen by the Department's Chief Information Officer (CIO), 6000 Defense Pentagon, Washington, DC 20301-6000.

SYSTEM MANAGER(S):

The system managers are as follows:

A. Chief Data Officer, Department of Defense, 6000 Defense Pentagon, Washington, DC 20301-6000; osd.pentagon.dod-cio.list.cdo@mail.mil; (571) 372-4666.

B. Director, CFO Data Transformation Office, Office of the Undersecretary for Defense (Comptroller), 1100 Defense Pentagon, Washington, DC 20301-1100; osd.pentagon.ousd-c.mbx.audit-helpdesk@mail.mil; (703) 614-8575.

C. Chief Data Officer, Department of the Air Force, 1600 Air Force Pentagon, Room 5E811, Washington, DC 20330; usaf.pentagon.saf-co.mbx.chief-data-office-workflow@mail.mil; (703) 692-9850.

D. Chief Data Officer, Department of the Navy, 1000 Navy Pentagon, Room 4E623, Washington, DC 20350; don_data@navy.mil; (703) 695-3979.

E. Chief Data Officer, Army CIO/G-6 Director, Cybersecurity, 5850 23rd Street, Fort Belvoir, VA 22060; cio-g6.pia.inbox@mail.mil; (703) 545-1688.

AUTHORITY FOR MAINTENANCE OF THE SYSTEM:

Public Law 113-101, Digital Accountability and Transparency Act of 2006, as amended in 2014; Public Law 113-291, Federal Information Technology Acquisition Reform, 2015; 10 U.S.C. 2222, Defense Business Systems: Business Process Reengineering; Enterprise Architecture; Management; 10 U.S.C. 117, Readiness Reporting System; 10 U.S.C. 482, Readiness Reports; 31 U.S.C. 902, Authority and Functions of Agency Chief Financial Officers, as amended; 31 U.S.C. 3512(b), Executive Agency Accounting and Other Financial Management Reports and Plans; DoD Directive 7045.14, The Planning, Programming, Budgeting, and Execution (PPBE) Process; DoD Directive 7730.65, Department of Defense Readiness Reporting System; DoD Instruction 8320.02, Sharing Data, Information, and Information Technology (IT) Services in the Department of Defense; DoD Instruction 8320.07, Implementing the Sharing of Data, Information, and Information Technology (IT) Services in the Department of Defense; and E.O. 9397, Numbering Systems for Federal Accounts Relating to Individual Persons, as amended.

PURPOSE(S) OF THE SYSTEM:

A. To improve data quality, data automation, and data linking of common enterprise data across the DoD for financial, business, and mission readiness reporting.

B. To implement shared internal compliance controls for data governance including enhanced auditing capabilities across the enterprise.

C. To provide a platform for shared service and business system optimization analytics across the enterprise, to include predictive models used to measure the effectiveness of combat units and operational readiness.

D. To make data more easily accessible, standardized, efficiently processed, and useful across the DoD.

CATEGORIES OF INDIVIDUALS COVERED BY THE SYSTEM:

All Military Services personnel, including National Guard and Reserve components; former members and retirees of the Military Services; dependent family members of Military Services members; DoD “affiliated” individuals (e.g., non-appropriated fund employees working on military installations, Red Cross volunteers assisting at military hospitals, United Services Organization (USO) staff providing services on military installations, Congressional staff members visiting military installations, etc.); DoD presidential appointees; and DoD civilian employees, contractors, or individuals (and their surviving beneficiaries) accorded benefits, rights, privileges, or immunities associated with DoD as provided by U.S. law.

CATEGORIES OF RECORDS IN THE SYSTEM:

A. Personal Information: Name; DoD ID number; Social Security Number (SSN); address; email address(es); date of birth; gender; branch of service; citizenship; Defense Enrollment Eligibility Reporting System benefit number; sponsorship and beneficiary information; race and ethnic origin.

B. Employment Information: Employment status; duty position; leave balances and history; work schedules; individual personnel records; time and attendance records; retirement records, sponsor duty location, unit of assignment; occupation; rank; skill specialty; security clearance information.

C. Personal Financial Information: Pay, wage, earnings information; separation information; financial benefit records; income tax withholding records; accounting records.

D. Medical Readiness and Deployment Information: Inpatient and outpatient medical records; pharmacy records; immunization records; Medical and Physical Evaluation Board records; neuropsychological functioning and cognitive testing data; periodic and deployment-related health assessments.

RECORD SOURCE CATEGORIES:

Records and information stored in this system of records are obtained from:

A. Individuals.

B. All DoD databases flowing into or accessed through the following integrated data systems, environments, applications, and tools: Defense Finance and Accounting Services financial business feeder systems, Procurement Integrated Enterprise Environment, Defense Manpower Data Center including the Defense Eligibility Enrollment System, Defense Readiness Reporting System (DRRS) enterprise (including DRRS-Strategic and DRRS-Army Database), Defense Medical Logistics—Enterprise Solution, Digital Training Management System, Defense Occupational and Environmental Health Readiness System, Global Force Management Data Initiative, Medical Operational Data System, Force Risk Reduction, Medical Readiness Reporting System, Medical Health System Data Repository, Army National Guard Human/Personnel, Resource, and Manpower Systems, and commensurate data from National Guard Bureau Systems.

C. The following standalone DoD systems and datasets: Drug and Alcohol Management Information System; Physical Disability Case Processing System; TRANSCOM Patient Regulating Command & Control Evaluation System; DoD Suicide Event Report System; Army National Guard Unit Risk Inventory; Global Assessment Tool; Defense Organizational Climate Survey; Learning Management System; Total Human Resource Managers Information System; Navy Manpower Program and Budget System; and Army Training Requirements and Resources System.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are stored on electronic media.

POLICIES AND PRACTICES FOR RETRIEVAL OF RECORDS:

In instances where records are retrieved by a personal identifier, they will typically be retrieved by an individual's full name and/or DoD ID number.

POLICIES AND PRACTICES FOR RETENTION AND DISPOSAL OF RECORDS:

Records are retained and disposed of in accordance with the applicable records schedule for the systems from which they were collected.

ADMINISTRATIVE, TECHNICAL, AND PHYSICAL SAFEGUARDS:

Multifactor log-in authentication including CAC authentication and password; SIPR token as required. Access controls enforce need-to-know policies so only authorized users have access to PII. Additionally, security audit and accountability policies and procedures directly support privacy and accountability procedures. Network encryption protects data transmitted over the network while disk encryption secures the disks storing data. Key management services safeguards encryption keys. Sensitive data is identified and masked as practicable. All individuals granted access to this system of records must complete requisite training to include Information Assurance and Privacy Act training. Sensitive data will be identified, properly marked with access by only those with a need to know, and safeguarded as appropriate. Physical access to servers are controlled at building access points utilizing detection systems other electronic alert systems. Electronic intrusion detection systems are installed within the facilities to monitor, detect, and automatically alert appropriate personnel of security incidents. Access to server rooms are secured with devices that require each individual to provide multi-factor authentication before granting entry or exit.

RECORD ACCESS PROCEDURES:

Individuals seeking access to their records should address written inquiries to the DoD office with oversight of the records. The public may identify the appropriate DoD office through the following website: www.FOIA.gov. Signed written requests should contain the name and number of this system of records notice along with the full name, identifier (i.e., DoD ID Number or Defense Benefits Number), date of birth, current address, and telephone number of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310, or may be obtained from the system manager.

NOTIFICATION PROCEDURES:

Individuals seeking to determine whether information about themselves is contained in this system should address written inquiries to the appropriate system mangers(s). Signed written requests should contain the full name, identifier (i.e. DoD ID Number or DoD Benefits Number), date of birth, and current address and telephone number of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

The DoD has exempted records maintained in this system from 5 U.S.C. 552a(c)(3), (d)(1), (2), (3), and (4) of the Privacy Act, pursuant to 5 U.S.C. 552a(k)(1). In addition, when exempt records received from other systems of records become part of this system, the DoD also claims the same exemptions for those records that are claimed for the original primary systems of records from which they originated and claims any additional exemptions set forth here. An exemption rule for this system has been promulgated in accordance with requirements of 5 U.S.C. 553(b)(1), (2), and (3), (c), and published in 32 CFR part 310.

HISTORY:

March 17, 2020, 85 FR 15150.

[FR Doc. 2020-28792 Filed 1-5-21; 8:45 am]

BILLING CODE 5001-06-P